NUCLEAR REGULATORY COMMISSION

[Docket No. 50-255; NRC-2024-0076]

Holtec Decommissioning International, LLC and Holtec Palisades, LLC; Palisades Nuclear Plant; Environmental Assessment and Finding of No Significant Impact

AGENCY: Nuclear Regulatory Commission.

ACTION: Notice; issuance.

SUMMARY: The U.S. Nuclear Regulatory Commission (NRC), as the lead agency, and the U.S. Department of Energy (DOE), Loan Programs Office (LPO), as a cooperating agency, are issuing an environmental assessment (EA) and finding of no significant impact (FONSI) evaluating the environmental impacts from proposed Federal actions related to reauthorizing power operations at the Palisades Nuclear Plant (Palisades). Specifically, the NRC is considering an exemption request, a license transfer request, and license amendment requests (LARs) that, if approved, would collectively support reauthorizing power operations, and refueling of the reactor under the existing Palisades Renewed Facility Operating License (RFOL) No. DPR-20. DOE LPO's proposed action is to provide Federal financial support (a loan guarantee) to support refueling and resumption of power generation activities at Palisades.

DATES: The EA and FONSI referenced in this document are available on May 30, 2025.

ADDRESSES: Please refer to Docket ID NRC-2024-0076 when contacting the NRC about the availability of information regarding this document. You may obtain publicly available information related to this document using any of the following methods:

• Federal Rulemaking Website: Go to https://regulations.gov and search for Docket ID NRC-2024-0076. Address questions about Docket IDs in Regulations.gov to Bridget Curran; telephone: 301-415-1003; email: Bridget.Curran@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, under the heading “ADAMS Public Search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC Public Project Website: The EA and FONSI along with information regarding Palisades, including licensing, operation, decommissioning, and potential restart is available at https://www.nrc.gov/info-finder/reactors/pali.html.

FOR FURTHER INFORMATION CONTACT: Mary Richmond, telephone: 301-415-7218; email: Mary.Richmond@nrc.gov and Laura Willingham, telephone: 301-415-0857; email: Laura.Willingham@nrc.gov. Both are staff of the Office of Nuclear Material Safety and Safeguards, U.S. Nuclear Regulatory Commission, Washington, DC 20555-0001.

SUPPLEMENTARY INFORMATION:

I. Introduction

Palisades consists of a single pressurized-water reactor designed by Combustion Engineering (with a turbine-generator designed by Westinghouse) and is located in Covert Township, Michigan, along the shoreline of Lake Michigan. Originally licensed for operation on March 24, 1971, the NRC issued RFOL No. DPR-20, for Palisades on January 17, 2007, with the renewed operating license term expiring on March 24, 2031.

After more than 40 years of commercial operation, Palisades permanently ceased operations on May 20, 2022. On June 13, 2022, Entergy Nuclear Operations, Inc., the licensee who operated the facility prior to transfer of the Palisades license to Holtec Decommissioning International, LLC (HDI) and Holtec Palisades, LLC, submitted the certifications for permanent cessation of operations and permanent removal of fuel from the reactor vessel in accordance with paragraph 50.82(a)(1) of title 10 of the Code of Federal Regulations (10 CFR). When the NRC docketed the certifications, Palisades' RFOL No. DPR-20 no longer authorized operation of the reactor, or emplacement or retention of fuel into the reactor vessel, as provided by 10 CFR 50.82(a)(2).

To return Palisades to power operations, HDI submitted (1) a request for an exemption from the requirement in 10 CFR 50.82(a)(2) that prohibits operation of the Palisades reactor, or emplacement or retention of fuel into the reactor vessel; (2) a request for a license transfer from HDI (currently responsible for decommissioning activities at Palisades) to Palisades Energy, LLC (which would be authorized to operate the reactor); and (3) the LARs. These requests, along with the NRC determinations, that these requests were acceptable for review, are listed in Section II of this notice. If all the requests are granted, Palisades Energy, LLC, would be allowed to place fuel into the reactor vessel and resume power operations through March 24, 2031, which is the end of the renewed facility operating license term under Palisades RFOL No. DPR-20.

The NRC staff prepared a draft EA and draft FONSI in accordance with 10 CFR 51.30, “Environmental assessment” documenting its environmental review of the potential licensing and regulatory approvals. The NRC issued the draft EA and draft FONSI in the Federal Register and offered a 30-day public comment period (90 FR 8721) in accordance with 10 CFR 51.33, “Draft finding of no significant impact; distribution.” The draft FONSI stated that the NRC staff has preliminarily determined that the proposed Federal actions would not significantly affect the quality of the human environment.

The environmental review included fulfillment of the NRC obligations related to Section 106 of the National Historic Preservation Act of 1966 (54 U.S.C. 300101, et seq.) (NHPA). The regulations in 36 CFR 800.8, “Coordination With the National Environmental Policy Act” allow agencies to use their National Environmental Policy Act of 1969 (42 U.S.C. 4321, et seq.) process to fulfill the requirements of Section 106 of the NHPA. Therefore, pursuant to 36 CFR 800.8(c), the NRC used its process for the preparation of the EA on the proposed actions to comply with Section 106 of the NHPA in lieu of the procedures set forth at 36 CFR 800.3 through 800.6.

After consideration of the public comments, the NRC staff finalized the EA, which is summarized in Section II of this document. Based on this final EA and in accordance with 10 CFR 51.31(a), “Determinations based on environmental assessment” the NRC has determined that the preparation of an environmental impact statement (EIS) is not necessary and has prepared a FONSI in accordance with 10 CFR 51.32, “Finding of no significant impact.” The FONSI is detailed in Section III of this document.

II. Summary of Environmental Assessment

Description of the Proposed Action and Need

The NRC's proposed actions are decisions on whether to grant or deny Holtec's interdependent, connected licensing and regulatory requests that, if approved, would collectively support the preparations for and the resumption of power operations, including the refueling of the reactor under the existing Palisades' RFOL No. DPR-20.

Document description | ADAMS accession No.
Request for Exemption from Certain Termination of License Requirements of 10 CFR 50.82, dated September 28, 2023; Acceptance Review dated November 3, 2023 | ML23271A140; ML23291A440.
Application for Order Consenting to Transfer of Control of License and Conforming License Amendments, dated December 6, 2023; Acceptance Review dated January 16, 2024 | ML23340A161; ML24012A242.
Request to Revise Operating License and Technical Specifications to Support Resumption of Power Operations, dated December 14, 2023; Acceptance Review dated January 23, 2024 | ML23348A148; ML24022A117.
Request to Revise the Administrative Technical Specifications to Support Resumption of Power Operations, dated February 9, 2024; Acceptance Review dated March 18, 2024 | ML24040A089; ML24060A221.
Request to Revise the Palisades Emergency Plan to Support Resumption of Power Operations, dated May 1, 2024; Acceptance Review dated May 23, 2024. | ML24122C666; ML24141A119.
Request to Approve the Main Steam Line Break Analysis Methodology, dated May 24, 2024; Acceptance Review dated June 18, 2024 | ML24145A145; ML24169A434.
Request to Include Leak Before Break Methodology for Primary Coolant System Hot and Cold Leg Piping in Palisades Licensing Basis, dated February 5, 2025; Acceptance Review dated March 14, 2025 | ML25035A216; ML25069A544.
Request to Revise Steam Generator Repair by Sleeving for Palisades Nuclear Plant, dated February 11, 2025; Acceptance Review dated March 20, 2025 | ML25043A348; ML25076A177.

The NRC's environmental review also encompasses any revisions or supplements to these requests or other regulatory or licensing requests submitted to the NRC that are necessary to reauthorize power operations of Palisades.

The DOE LPO's Federal action is a decision on providing Federal financial assistance for refueling and resumption of power generation activities at Palisades, pursuant to Holtec's loan guarantee agreement with DOE LPO that was issued pursuant to the Energy Policy Act of 2005.

The need for the potential approval of the proposed NRC Federal actions, collectively supporting the reauthorization of power operations, is to provide an option that allows for baseload clean energy power generation capability within the term of the Palisades' RFOL No. DPR-20 to meet current system generating needs. Regarding the need for clean energy, Holtec cites the State of Michigan's Public Acts of 2023, Act No. 235 (enrolled Senate Bill 271), which establishes a clean energy standard for electric providers to provide at least 80 percent clean energy by 2035 and 100 percent by 2040. Michigan's Act No. 235 defines clean energy as including a system that “Generates electricity or steam without emitting greenhouse gas, including nuclear generation.”

The need for DOE's proposed action (Federal financial assistance in the form of a loan guarantee) is to implement DOE's authority under Title XVII of the Energy Policy Act of 2005, which was reauthorized, amended, and revised by the Inflation Reduction Act of 2022 to create the Energy Infrastructure Reinvestment Program (Section 1706). The purpose of the Energy Infrastructure Reinvestment Program is to finance projects and facilities in the United States that retool, repower, repurpose, or replace energy infrastructure that has ceased operations or to enable operating energy infrastructure to avoid, reduce, utilize, or sequester air pollutants or anthropogenic emissions of greenhouse gases (42 U.S.C. 16517(a)(2)).

Environmental Impacts of the Proposed Action

In the final EA, the NRC staff assessed the potential direct and indirect environmental impacts from the proposed actions associated with the following relevant resource areas: land use and visual resources; meteorology and air quality; surface water resources; groundwater resources and the geologic environment; ecological resources (terrestrial and aquatic); historic and cultural resources; socioeconomics; radiological and nonradiological human health; waste management; uranium fuel cycle and transportation; and postulated accidents. The NRC staff also considered decommissioning impacts, the potential effects of climate change on its evaluation of the environmental impacts of the proposed continued operation of Palisades, and the cumulative effects from past, present, and reasonably foreseeable future actions when combined with the proposed Federal actions.

In the final EA, the NRC staff determined that the environmental impacts of the proposed action would be NOT SIGNIFICANT for each potentially affected environmental resource. In addition, the NRC staff determined that the projected effects of climate change would not alter any of the impact determinations described in the EA. Furthermore, the NRC staff found that there would be no significant cumulative impact to any resource area from the proposed action when added to other past, present, and reasonably foreseeable actions.

Environmental Impacts of the Alternatives to the Proposed Action

In the final EA, the NRC staff considered a range of alternatives to the proposed action and the environmental impacts of the alternatives as appropriate. The NRC staff determined that there are no alternatives that meet the need for the proposed action that would be environmentally preferrable to the proposed action.

III. Finding of No Significant Impact

The proposed Federal actions before the NRC are whether to grant requests for an exemption, a license transfer, and license amendments to reauthorize Palisades for power operations through the remainder of its licensing term (to March 24, 2031). The NRC staff has conducted an environmental review of these actions and prepared an EA. This FONSI incorporates by reference the EA summarized in Section II of this notice and referenced in Section IV of this notice. Based on the NRC staff's determinations in the EA that the environmental impacts of the proposed actions would be NOT SIGNIFICANT for each potentially affected resource area, the NRC staff has determined, after consideration of public comments, that the proposed Federal actions would not significantly affect the quality of the human environment. Accordingly, the NRC staff has made a determination that preparation of an EIS is not required for the proposed Federal actions and that a FONSI is warranted.

This finding and the related environmental documents referenced throughout the EA are available for public inspection as discussed in the EA and Sections I and IV of this notice. At the conclusion of the NRC environmental review, DOE LPO would publish a separate Record of Decision or FONSI, as appropriate.

IV. Availability of Documents

In addition to the documents listed in Section II related to the NRC's proposed actions, the documents listed in the following table are available to interested persons through one or more of the following methods, as indicated.

Document description | ADAMS accession No./ Federal Register notice
Environmental Assessment and Finding of No Significant Impact for the Palisades Nuclear Plant Reauthorization of Power Operations Project, dated May 30, 2025 | ML25111A031.
Draft Environmental Assessment and Draft Finding of No Significant Impact for the Palisades Nuclear Plant Reauthorization of Power Operations Project, published January 31, 2025 | ML24353A157/90 FR 8721.
Correspondence to NRC from Holtec, Response to Requests for Additional Information Regarding the Proposed Reauthorization of Power Operations under Renewed Facility Operating License Number DPR-20, dated October 4, 2024 | ML24278A027.
Correspondence to NRC from Holtec, Responses to Requests for Confirmatory Information, dated September 12, 2024 | ML24260A354.
Correspondence to NRC from Holtec, Responses to Requests for Confirmatory Information, dated November 14, 2024 | ML24319A053.
Holtec Decommissioning International, LLC, and Holtec Palisades, LLC; Palisades Nuclear Plant; Applications for Amendments to Renewed Facility Operating License Involving Proposed No Significant Hazards Considerations and Order Imposing Procedures for Access to Sensitive Unclassified Non-Safeguards Information and Safeguards Information—License amendment requests; opportunity to comment, request a hearing, and petition for leave to intervene; order, published August 7, 2024 | 89 FR 64486.
Holtec Decommissioning International, LLC, Holtec Palisades, LLC, and Palisades Energy, LLC; Palisades Nuclear Plant and the Palisades Independent Spent Fuel Storage Installation; Consideration of Approval of Transfer of Licenses and Conforming Amendment—Application for direct transfer of license; opportunity to comment, request a hearing, and petition for leave to intervene, published August 7, 2024 | 89 FR 64493.
Holtec Decommissioning International, LLC, and Holtec Palisades, LLC; Palisades Nuclear Plant; Notice of Intent To Conduct Scoping Process and Prepare an Environmental Assessment, published June 27, 2024 | 89 FR 53659.

Dated: May 23, 2025.
For the Nuclear Regulatory Commission.
John Moses,
Deputy Director, Division of Rulemaking, Environmental, and Financial Support, Office of Nuclear Material Safety, and Safeguards.

[FR Doc. 2025-09756 Filed 5-29-25; 8:45 am]

BILLING CODE 7590-01-P